DEPARTMENT OF TRANSPORTATION

Federal Aviation Administration

Seventh Meeting: Special Committee 209, EUROCAE WG-49 Joint Plenary Session ATCRBS/Mode S Transponder MOPS Maintenance

AGENCY: Federal Aviation Administration (FAA), DOT.

ACTION: Notice of RTCA Special Committee 209, EUROCAE WG-49 Joint Plenary Session ATCRBS/Mode S Transponder MOPS Maintenance.

SUMMARY: The FAA is issuing this notice to advise the public of a meeting of RTCA Special Committee 209, EUROCAE WG-49 Joint Plenary Session ATCRBS/Mode S Transponder MOPS Maintenance.

DATES: The meeting will be held August 20, 2007 from 10 a.m.-5 p.m. and August 21-24 from 9 a.m.-5 p.m.

ADDRESSES: Eurocontrol Headquarter, Brussels Belgium, Sirius Conference Room.

FOR FURTHER INFORMATION CONTACT: Host Contact: Eric Potier; telephone +322-729-3504, e-mail eric.potier@eurocontrol.int (2) Secretary Contact: Gary Furr; telephone (609) 485-4254, e-mail gary.ctr.furr@faa.gov.

SUPPLEMENTARY INFORMATION: Pursuant to section 10(a)(2) of the Federal Advisory Committee Act (Pub. L. 92-463, 5 U.S.C., Appendix 2), notice is hereby given for a Special Committee 209 meeting. The agenda will include:

August 20-24:

• Host/Co-Chairs Welcome, Introductions and Remarks

• Review and Approval of the Agenda (SC209-WP07-01)

• Review and Approval of the Minutes form SC-209WG #1, Mtg (SC209 WP07-02)

• Review and Approval of the Minutes from WG-49 Meeting #10 (WG49N10)

• Summary of the Status of EUROCAE WG-49 Activities

• Summary of the Status of RTCA SC-209 Activities

• Summary of “Airborne Monitoring Results” from CASCADE Program Office (Scheduled for Thursday, 23 August @ 1 p.m.)

• Discussion on harmonization of DO-181/ED-73 document organization

• Organization of the Appendices (WG19N11-02)

• ED-73, Chapter 3 and Chapter 5

• Review of Final Proposal for TCAS Version Number and 735B Comments

• Ronald Mallwitz Comments to AEEC

• Discussion of Potential Changes in Comm-B Protocol Requirements and Tests

• Previously submitted Working Papers (ModeS-WP01-05, ModeS-WP01-06)

• Discussion of Issues resulting from review of Differences in DO-181/ED-73

• Differences potentially impacting ED-73 (WG49N11-09, ModeS-WP01-06)

• Differences potentially impacting DO-181 (WG49N11-10)

• Maximum Mode A/C Reply Rate Requirement

• Discuss the Harmonization of ELS and EHS Requirements and Test Procedures

• Draft v1.0 of Do-181D containing integrated ELS/EHS (SC209-WP07-07)

• Review of SARPs changes that have resulted in potential changes to both MOPS

• List SARPs CPs going to Annex 10 Amendment 82 (SC209-WP07-05)

• Discuss the Environmental Test Philosophies between DO-181-D & ED-73C

• WG-49 Agreed upon Reduced Tests Modifications (WG19N11-03)

• WG-49 Agreed upon Reorganization of ED-73C, Chapter 4 (WG49N11-04)

• WG-49 Proposed Environmental Test List (WG49N11-08)

• NTSB Recommendation Regarding Standby Mode Indication for TCAS/ACAS and Transponder (SC209-SP07-08)

• Status of the ED-73B/DO-181 Requirements Comparison data base

• (SC209-WP07-__)

• Discussion on the Status of the update of the ATCRBS MOPS (DO-144)

• (SC209-WP07-__)

• Review of Identified Open Issues in DO-181D (SC209-WP07-09)

• Review Status of Action Items and Joint Plenary Agreements

• Closing Plenary Session (Date, Place and Time of Future Meetings, Discussion of Agenda topic for Next Meeting(s), Other Business, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, July 27, 2007.
Francisco Estrada C.,
RTCA Advisory Committee.

[FR Doc. 07-3780 Filed 8-2-07; 8:45 am]

BILLING CODE 4910-13-M